DEPARTMENT OF COMMERCE

National Oceanic and Atmospheric Administration

50 CFR Part 679

[Docket No. 260209-0040]

RIN 0648-BM64

Fisheries of the Exclusive Economic Zone off Alaska; Amendment 125 to the Bering Sea and Aleutian Islands Fishery Management Plan; Pacific Cod Small Boat Access

AGENCY: National Marine Fisheries Service (NMFS), National Oceanic and Atmospheric Administration (NOAA), Commerce.

ACTION: Final rule.

SUMMARY: NMFS issues this final rule to implement amendment 125 to the Fishery Management Plan for Groundfish of the Bering Sea and Aleutian Islands Management Area (BSAI FMP). Amendment 125 and this final rule add a small vessel provision to the BSAI Pacific cod jig sector in the A season, January 1 to April 30. Under this small vessel provision, catch from catcher vessels (CV) using hook-and-line or pot gear that are less than or equal to 55 feet (ft) (16.8 meters (m)) length overall (LOA) harvesting Pacific cod in the BSAI during the jig gear A season accrues to the jig sector allocation. This action provides stability and additional opportunities for some fishery participants and potential new entrants. It also advances the goals and objectives of the Magnuson-Stevens Fishery Conservation and Management Act (Magnuson-Stevens Act), the BSAI FMP, and other applicable laws.

DATES: This rule is effective May 1, 2026.

ADDRESSES: Electronic copies of the Regulatory Impact Review for amendment 125 to the BSAI FMP (referred to as the Analysis), and the categorical exclusion prepared for this action are available from http://www.regulations.gov or from the NMFS Alaska Region website at https://www.fisheries.noaa.gov/region/alaska.

FOR FURTHER INFORMATION CONTACT: Lis Henderson, 907-586-7228, lis.henderson@noaa.gov.

SUPPLEMENTARY INFORMATION: This final rule implements amendment 125 to the BSAI FMP. NMFS published a notice of availability (NOA) for amendment 125 in the Federal Register on June 4, 2025, with comments invited through August 4, 2025 (90 FR 23664). NMFS also published the proposed rule for amendment 125 in the Federal Register on August 6, 2025 (90 FR 37831), with comments invited through September 5, 2025. Comments on the NOA and the proposed rule for amendment 125 were considered in evaluation of this final rule. NMFS approved amendment 125 on September 3, 2025 after considering public comments and determining that amendment 125 is consistent with the BSAI FMP, the Magnuson-Stevens Act, and other applicable laws. NMFS received four comment letters during the public comment period on the NOA and three comment letters during the public comment period on the proposed rule. NMFS summarized and responded to these comments under the Comments and Responses heading, below.

NMFS manages the groundfish fisheries in the exclusive economic zone of the Bering Sea and Aleutian Islands management area off Alaska under the BSAI FMP. The North Pacific Fishery Management Council (Council) prepared, and NMFS approved, the BSAI FMP under the authority of the Magnuson-Stevens Act (16 U.S.C. 1801 et seq.). Regulations implementing the BSAI FMP appear at 50 CFR part 679. General regulations governing U.S. fisheries also appear at 50 CFR part 600. In order to promote the long-term health and stability of the BSAI Pacific cod fishery, the Council recommended and NMFS approved amendment 125 under the authority of the Magnuson-Stevens Act sections 302(h)(1), 303(a)(1), and 304(a)(3). The Council recommended and NMFS approved this final rule to implement amendment 125 under the rulemaking authority of the Magnuson-Stevens Act sections 303(c) and 304(b)(3).

Background

This section provides a brief description of (1) Pacific cod allocations, (2) inseason adjustments, and (3) affected fishery sectors. A more detailed description of the need for this rule and this background information is included in the preamble to the proposed rule (90 FR 37831, August 6, 2025) and Section 1.1 of the Analysis (See ADDRESSES).

Pacific Cod Allocations

The BSAI FMP and implementing regulations require that, after consultation with the Council, NMFS specify a total allowable catch (TAC) amount for Pacific cod on an annual basis. During the annual harvest specifications process, and after subtraction of the Community Development Quota (CDQ) Program allocation, NMFS allocates an amount of the combined BSAI non-CDQ TAC to each of nine non-CDQ fishery sectors. The non-CDQ fishery sectors are defined by a combination of gear type (e.g., trawl gear or hook-and-line gear), operation type (i.e., CV or catcher/processor (C/P)), and vessel size, or LOA, categories (e.g., vessels greater than or equal to 60 ft (18.3 m) LOA). Regulations at § 679.20(a)(7)(ii)(A) allocate 1.4 percent of the BSAI non-CDQ Pacific cod TAC to the jig sector and 2 percent to the less than 60 ft (18.3 m) LOA hook-and-line and pot CV sector.

Under regulations at § 679.20(a)(7), allocations of Pacific cod to most of the CDQ Program and non-CDQ fishery sectors are further apportioned by seasons, which are uniquely defined for each sector at § 679.23(e)(5). Regulations apportion jig gear allocations among three seasons that correspond to January 1 through April 30 (A season), April 30 through August 31 (B season), and August 31 through December 31 (C season). The less than 60 ft (18.3 m) LOA hook-and-line and pot CV sector is not divided into seasons, and the annual allocation may be harvested January 1 through December 31. Depending on the specific sector allocation (CDQ Program or non-CDQ fishery), between 40 and 75 percent of the Pacific cod allocation is apportioned to the A season.

While Pacific cod remains one of the most abundant species in the BSAI management area, population declines since 2016 have resulted in lower annual TACs than historical averages (see table 3-1 in Section 3.2 of the Analysis). The smaller annual TACs have resulted in earlier season closures. Smaller vessels (less than or equal to 55 ft (16.8 m) LOA) are disproportionately affected by early closures because vessel operators have less flexibility to fish when the weather is poor and typically fish waters closer to port, which may be less productive.

Inseason Adjustments

Regulations at § 679.20(a)(7)(iv)(B) allow any unused portion of a seasonal allowance from any sector, except the jig sector, to be rolled over to that sector's next season during the current fishing year unless the Regional Administrator determines that sector would be unable to harvest its allocation. For the jig sector, regulations require that any projected unused portion of a seasonal allowance of Pacific cod for the jig sector be reallocated to the less than 60 ft (18.3 m) LOA hook-and-line and pot CV sector. In the past, Pacific cod in the sectors with seasonal allowances other than the jig sector is often fully utilized later in the year and, therefore, the unused portion of Pacific cod has consistently rolled over to that sector's next season.

Historically, there has been little to no participation by vessels using jig gear in the A season, which has allowed NMFS to reallocate projected unused A season TAC from the jig sector to the less than 60 ft (18.3 m) LOA hook-and-line and pot CV sector early in the year (frequently in January). In recent years, the majority of the jig sector's A season allowance has been reallocated to the less than 60 ft (18.3 m) LOA hook-and-line and pot CV sector at the beginning of the year.

Affected Fishery Sectors

This action affects the jig gear sector and the hook-and-line and pot CVs less than 60 ft (18.3 m) LOA sector. The jig sector is allocated 1.4 percent of the annual BSAI Pacific cod non-CDQ TAC, with 60 percent of this allocation apportioned to the A season (§ 679.20(a)(7)(iv)(A)(3)). The jig gear sector includes all vessels operating as a CV and using jig gear, as well as C/P vessels using jig gear to harvest Pacific cod.

The less than 60 ft (18.3 m) LOA hook-and-line and pot CV sector is allocated 2 percent of the annual BSAI Pacific cod non-CDQ TAC for the year, with no seasonal apportionments (§ 679.20(a)(7)(iv)(A)(4)). The jig sector A season apportionment has typically been reallocated and made available to the less than 60 ft (18.3 m) LOA hook-and-line and pot CV sector at the beginning of the year. Due to the relatively large fishing capacity of the participants in the less than 60 ft (18.3 m) LOA hook-and-line and pot CV sector, their total allocation is typically harvested by late January or early February. Since 2020, reallocations to the less than 60 ft (18.3 m) LOA hook-and-line or pot CV sector have typically occurred first at the beginning of the year and then again in early to mid-September. Regulations at § 679.20(a)(7)(iv)(B) and (C) require a reallocation of BSAI Pacific cod from the jig sector's C season to the less than 60 ft (18.3 m) LOA hook-and-line and pot CV sector on or near September 1.

Amendment 125

Amendment 125 modifies the jig sector, during the A season, to include catch from CVs using hook-and-line or pot gear that are less than or equal to 55 ft (16.8 m) LOA. Pacific cod catch from these vessels during the jig sector A season would accrue to the jig sector allocation. Amendment 125 does not change the allocation percentages or reallocation hierarchy established under amendment 85 to the BSAI FMP (72 FR 50788, September 4, 2007). Amendment 125 does not change how Pacific cod catch accrues to the various sector allocations after the end of the jig sector A season. Amendment 125 also does not change that catch from CVs less than 60 ft (18.3 m) LOA and greater than 55 ft (16.8 m) LOA accrues to the less than 60 ft (18.3 m) LOA hook-and-line and pot gear CV sector allocation at all times during the fishing year.

Under amendment 125, after the jig sector A season ends (April 30), catch from all CVs less than 60 ft (18.3 m) LOA and using hook-and-line or pot gear (including those that are less than or equal to 55 ft (16.8 m) LOA) accrues to the less than 60 ft (18.3 m) LOA hook-and-line and pot gear CV sector allocation for the remainder of the year.

Final Rule

This final rule adds a small vessel provision at § 679.20(a)(7)(iv)(D) to specify how catch from hook-and-line or pot CVs that are less than or equal to 55 ft (16.8 m) LOA will accrue during the jig sector A season and the rest of the year. During the jig sector A season, catch from hook-and-line or pot gear CVs that are less than or equal to 55 ft (16.8 m) LOA will accrue to the jig sector allocation. After the jig sector A season ends on April 30 at 1200 hours Alaska local time (A.l.t.), jig sector seasonal allowances will be designated for jig vessels only. Beginning April 30 at 1200 hours A.l.t., catch from smaller CVs (less than or equal to 55 ft (16.8 m) LOA) using hook-and-line or pot gear will accrue against the hook-and-line and pot CV less than 60 ft (18.3 m) LOA sector's allocation.

This final rule also changes the sector allocations table at § 679.20(a)(7)(ii)(A) to modify the descriptions of the jig sector and the hook-and-line and pot CV less than 60 ft (18.3 m) LOA sector to accommodate the distinction between smaller (less than or equal to 55 ft (16.8 m) LOA) hook-and-line or pot CVs and larger (greater than 55 ft (16.8 m) LOA) hook-and-line or pot CVs during the jig sector A season (January 1 to April 30) as specified at § 679.23(e)(5)(iv)(A).

This final rule revises the descriptions of seasonal allowances by sector under § 679.20(a)(7)(iv) to reflect these distinctions by vessel size, type, and season. Note that season dates vary by sector and are listed under § 679.23(e)(5). This small vessel provision only applies during the jig gear A season and does not modify regulations that govern when directed fishing by CVs using hook-and-line or pot gear is authorized. Additional revisions are made in regulations to include cross references to the small vessel provision at § 679.20(a)(7)(iv)(D) as needed.

With this final action, NMFS modifies regulations at § 679.20(a)(7)(ii)(B) to specify which sectors have an incidental catch allowance deducted from their aggregate TAC to include the jig sector. The inclusion of smaller CVs (less than or equal to 55 ft (16.8 m) LOA) using hook-and-line or pot gear in the jig sector means that a portion of the jig sector allocation should be set aside for an incidental catch allowance to account for Pacific cod retained by CVs less than or equal to 55 ft (16.8 m) LOA using hook-and-line or pot gear in other fisheries during the jig gear A season.

This final rule also modifies regulations at § 679.20(a)(7)(iii) to incorporate the small vessel provision into the existing non-CDQ sector reallocation hierarchy and make technical changes to the organization. Paragraph § 679.20(a)(7)(iii)(A) is divided into six subparagraphs, and references to the new small vessel provision are added to paragraph (a)(7)(iii)(A)(1). Additional revisions to regulations at § 679.20(a)(7)(iii)(B) add introductory text to clarify that reallocations to trawl gear sectors are considered after applying paragraphs (a)(7)(iii)(A)(1) through (6) that specify the hierarchy of reallocations to the non-trawl CV sectors.

This action retains the reallocation hierarchy as specified at § 679.20(a)(7)(iii) and (iv)(C), which requires the Regional Administrator to reallocate a projected unused portion of a Pacific cod allowance from the jig sector to the less than 60 ft (18.3 m) LOA hook-and-line and pot CV sector at the beginning of the C season. This hierarchy also allows NMFS to reallocate the unused jig sector allocation earlier in the year if NMFS is confident that they could project the amount of TAC that the newly modified jig sector would need to finish the A season.

Changes From Proposed to Final Rule

NMFS determined that no changes to the regulatory text are necessary in this final rule. No public comments received on the NOA or the proposed rule indicated need for changes to the proposed action.

Comments and Responses

NMFS received seven comment letters on amendment 125 and the proposed rule. NMFS has summarized and responded to four unique comments below. The comments were from individuals and representatives for Tribal and Alaska Native fishermen; the City of Unalaska, Alaska; the Alaska Department of Fish and Game; and one anonymous individual. All comments were supportive except for one that did not address this action.

Comment 1: Amendment 125 and the proposed rule would provide economic opportunities to fishermen and communities in Unalaska, Alaska, and support equitable access for small vessel operators who are more likely to be local and traditional users.

Response: NMFS acknowledges this comment.

Comment 2: In recent years, the Pacific cod less than 60 ft (18.3 m) LOA hook-and-line or pot gear sector has experienced shortened fishing seasons while the jig sector has had little to no effort during the A season. These shortened seasons have a disproportionate impact on smaller vessels, which have less flexibility to fish in inclement weather and typically must stay closer to port. This action provides latitude for fishermen with smaller vessels to avoid inclement weather and fish closer to shore during the Pacific cod jig gear A season (January 1 to April 30).

Response: NMFS acknowledges this comment.

Comment 3: The Alaska Department of Fish and Game staff have evaluated the impacts of the proposed rule on coordinated State and Federal Pacific cod management. Staff do not anticipate any conflicts or changes to the existing Dutch Harbor Subdistrict state-waters fishery management plan to accommodate this action and the existing management plan adequately ensures that a vessel cannot participate in two fisheries, State and Federal, at the same time.

Response: NMFS acknowledges this comment.

Comment 4: The only fishing that should be allowed is subsistence fishing. Commercial fishing should be prohibited.

Response: This final rule implements a limited change to the management of the commercial Pacific cod fishery in the BSAI by adding a small vessel provision in the regulations implementing the BSAI FMP. Changes to prohibit commercial fishing for groundfish are outside the scope of this action. Changes to non-commercial fishing activities, including subsistence fishing, are outside of the scope of this action.

Classification

Pursuant to section 304(b)(3) of the Magnuson-Stevens Act, the NMFS Assistant Administrator has determined that this final rule is consistent with amendment 125 to the BSAI FMP, other provisions of the Magnuson-Stevens Act, and other applicable law.

This final rule has been determined to be not significant for purposes of Executive Order (E.O.) 12866.

This final rule is not an E.O. 14192 regulatory action because this action is not significant under E.O. 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2) of E.O. 13175 is not required and has not been prepared.

This final rule contains no information collection requirements under the Paperwork Reduction Act of 1995 (44 U.S.C. 3501 et seq.).

Regulatory Impact Review

A Regulatory Impact Review (RIR) was prepared to assess all costs and benefits of available regulatory alternatives. A copy of this analysis is available from NMFS (see ADDRESSES). NMFS approved amendment 125 and these regulations based on those measures that maximized net benefits to the Nation. Specific aspects of the economic analysis are discussed below in the Final Regulatory Flexibility Analysis (FRFA) section.

Final Regulatory Flexibility Analysis

A FRFA was prepared. This FRFA incorporates the Initial Regulatory Flexibility Analysis (IRFA) and a summary of the analyses completed to support this final rule. No public comments responded to the IRFA.

Section 604 of the Regulatory Flexibility Act (RFA) requires that, when an agency promulgates a final rule under section 553 of Title 5 of the U.S. Code (5 U.S.C. 553), after being required by that section or any other law to publish a general notice of final rulemaking, the agency shall prepare a FRFA (5 U.S.C. 604). Section 604 describes the required contents of a FRFA: (1) A statement of need for and objectives of the rule; (2) a statement of the significant issues raised by the public comments in response to the IRFA, a statement of the agency's assessment of such issues, and a statement of any changes made to the proposed rule as a result of such comments; (3) the response of the agency to any comments filed by the Chief Counsel for Advocacy of the Small Business Administration (SBA) in response to the proposed rule as a result of the comments; (4) a description and estimate of the number of small entities to which the rule will apply, or an explanation of why no such estimate is available; (5) a description of the projected reporting, recordkeeping, and other compliance requirements of the rule, including an estimate of the classes of small entities that will be subject to the requirement and the type of professional skills necessary for preparation of the report or record; and (6) a description of the steps the agency has taken to minimize the significant economic impact on small entities consistent with the stated objectives of applicable statutes including a statement of the factual, policy, and legal reasons for selecting the alternative adopted and why each one of the other significant alternatives to the rule considered by the agency which affect the impact on small entities was rejected.

A description of this final rule and the need for and objectives of this rule are contained in the preamble to the proposed rule (90 FR 37831) and this final rule and are not repeated here.

Public and Chief Counsel for Advocacy Comments on the IRFA

An IRFA was prepared in the Classification section of the preamble to the proposed rule. The Chief Counsel for Advocacy of the SBA did not file any comments on the proposed rule. NMFS received no comments specifically on the IRFA. No comments provided information that refuted the conclusions presented in the IRFA.

Number and Description of Small Entities Regulated by this Final Action

Entities directly regulated by this final rule include vessels operating in the Federal BSAI Pacific cod less than 60 ft (18.3 m) LOA hook-and-line and pot CV and jig sectors. The jig sector includes CVs and C/P vessels. This section identifies all entities that could be considered directly regulated entities under the range of alternatives considered and likely represents an overestimate of the number of small entities that would be directly regulated.

During the most recent 5 years for which annual economic data are available (2019 through 2023), there were 53 active vessels that participated in the Federal BSAI Pacific cod less than 60 ft (18.3 m) LOA hook-and-line and pot CV and jig sectors. All 53 active vessels are directly regulated entities. All but 1 of the 53 directly regulated entities are considered small entities under the RFA. As many as three vessels from the less than 60 ft (18.3 m) LOA hook-and-line and pot CV sector also participated in the BSAI Pacific cod jig sector in either 2019 or 2020; however, no vessel participated in the jig sector in 2021 through 2023. All of these jig vessels are considered directly regulated small entities. Sixteen hook-and-line or pot CVs that are less than or equal to 55 ft (16.8 m) LOA participated in the BSAI Pacific cod fishery (2019 through 2023), and all 16 were active in 2023. All 16 of these hook-and-line or pot CVs are considered directly regulated small entities. Thirty-seven hook-and-line or pot CVs greater than 55 ft (16.8 m) LOA participated in the less than 60 ft (18.3 m) hook-and-line and pot CV sector (2019 through 2023), of which 34 vessels were active in 2023. Thirty-six of those 37 vessels are considered directly regulated small entities. These counts identify all unique directly regulated small entities that may participate in the fishery, recognizing that not all of these vessels participate in every year.

Description of Significant Alternatives That Minimize Adverse Impacts on Small Entities

NMFS considered, but did not adopt, one alternative (Alternative 1). NMFS also considered two options and one sub-option under the second, adopted alternative (Alternative 2), before selecting one option (Option 1) and the sub-option. Alternative 1 and the unselected option (Option 2), and their impacts to small entities, are described below.

Alternative 1, the no-action alternative, would retain the status quo by keeping the BSAI Pacific cod non-CDQ sectors specified at § 679.20(a)(7)(ii)(A), resulting in no change to impacts on small entities. Under the status quo, the BSAI Pacific cod jig sector has historically underutilized its 1.4 percent allocation of BSAI Pacific cod, the majority of which has been reallocated to the less than 60 ft (18.3 m) hook-and-line and pot CV sector. Despite this reallocation, increased participation in the less than 60 ft (18.3 m) LOA hook-and-line and pot CV sector and smaller BSAI Pacific cod allocation amounts and reallocations from other sectors have resulted in shortened fishing seasons for the less than 60 ft (18.3 m) LOA hook-and-line and pot CV sector. Alternative 1 would not address existing impacts to smaller vessels, which have lower capacity to harvest fish and, as such, are particularly affected by shortened fishing seasons and their reduced flexibility to operate in poor weather and sea conditions.

Alternative 2, the selected alternative, modifies the BSAI Pacific cod jig sector to include smaller hook-and-line or pot CVs. Alternative 2 contains two options, one of which was not selected (Option 2). Option 2 would set the LOA for smaller CVs at less than or equal to 56 ft (17.1 m) LOA. This option would include a greater number of vessels in the small vessel provision added to the jig gear sector. Information presented to the Council showed that some hook-and-line or pot CVs with a reported LOA of exactly 56 ft (17.1 m) have additional capacities to harvest BSAI Pacific cod more competitively than smaller vessels. Therefore, the Council did not recommend, and NMFS did not choose, to implement Option 2 because allowing 56 ft (17.1 m) LOA vessels with additional capacity to harvest Pacific cod from the jig sector's allocation in the A season may not eliminate the unintended intra-sector competition that current fishery participants in the less than 60 ft (18.3 m) hook-and-line and pot CV sector face.

This action (Alternative 2, Option 1, with the sub-option) would result in a modified jig sector to include vessels less than or equal to 55 ft (16.8 m) LOA using hook-and-line or pot gear during the jig sector A season. Option 1 ensures that the cut off for hook-and-line or pot CVs to harvest Pacific cod from the jig sector's allocation is set at a length that excludes larger vessels with additional efficiencies.

The selected sub-option allows for the addition of smaller vessels to the jig sector only during the jig sector A season. The sub-option specifies that the jig sector B and C seasons remain a jig-gear-only fishery. During the A season, catch from hook-and-line or pot CVs less than or equal to 55 ft (16.8 m) LOA would accrue to the jig sector allocation, and catch from hook-and-line or pot CVs with an LOA greater than 55 ft (16.8 m) LOA and less than 60 ft (18.3 m) LOA would accrue toward the less than 60 ft (18.3 m) LOA hook-and-line and pot CV sector's 2 percent allocation. After the jig sector's A season ends, all catch by hook-and-line or pot CVs less than 60 ft (18.3 m) LOA (including vessels less than or equal to 55 ft (16.8m) LOA) would accrue to the same sector as under the status quo.

The sub-option would likely result in additional opportunities for smaller hook-and-line or pot CVs to harvest Pacific cod during the jig sector A season. Keeping the B season as a jig-gear-only fishery (i.e., status quo) minimizes potential impacts to jig vessels, which make the majority of their BSAI Pacific cod deliveries between April and September (i.e., the B season) when the weather is safest for smaller vessels that use jig gear to operate. Additionally, hook-and-line or pot CVs typically prosecute other fisheries during the jig sector's B season. Due to this lack of demand and the amount of catch allocation necessary to make reopening the sector practical, NMFS has not been able to make a reallocation to reopen the less than 60 ft (18.3 m) LOA hook-and-line and pot CV sector in the spring and summer months since 2011. Finally, keeping the C season as a jig-gear-only fishery (i.e., status quo) responds to concerns the Council heard in public comment from fishery participants with larger hook-and-line or pot CVs who have come to depend on a fall fishing opportunity. This important fall fishing opportunity depends on the historically common reallocation of jig sector TAC to the less than 60 ft (18.3 m) LOA hook-and-line and pot CV sector on or near September 1.

Based upon the best scientific data available, and in consideration of the objectives of this action, there are no significant alternatives to this action that have the potential to accomplish the stated objectives of the Magnuson-Stevens Act and other applicable statutes and that have the potential to minimize any significant adverse economic impact of the proposed rule on small entities.

This action modifies fishing sectors to improve fishery efficiency, allows for new small entity entrants to the fishery, and improves small vessel safety at sea. NMFS determined that the recommended action would best accomplish the stated objectives articulated in the preamble for the proposed rule and this final rule, and in applicable statutes, and would minimize to the extent practicable adverse economic impacts on the universe of directly regulated small entities.

Duplicate, Overlapping, or Conflicting Federal Rules

No duplication, overlap, or conflict between this final action and existing Federal rules has been identified.

Recordkeeping, Reporting, and Other Compliance Requirements

This action does not modify recordkeeping or reporting requirements, or duplicate, overlap, or conflict with any Federal rules.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of this rulemaking process, NMFS prepared a “frequently asked questions and responses” that also serves as the small entity compliance guide. Copies of this final rule are available from the NMFS Alaska Regional Office and the small entity compliance guide (“frequently asked questions and responses”) will be posted online at https://www.fisheries.noaa.gov/action/amendment-125-bering-sea-and-aleutian-islands-fishery-management-plan-pacific-cod-small-boat. This final rule and the guide will be available upon request.

List of Subjects in 50 CFR Part 679

Alaska, Fisheries, Reporting and recordkeeping requirements.

Date: February 9, 2026.
Samuel D. Rauch III,
Deputy Assistant Administrator for Regulatory Programs, National Marine Fisheries Service.

For the reasons set out in the preamble, NMFS amends 50 CFR part 679 as follows:

PART 679—FISHERIES OF THE EXCLUSIVE ECONOMIC ZONE OFF ALASKA

1. The authority citation for part 679 continues to read as follows:

Authority: 16 U.S.C. 773 et seq.; 1801 et seq.; 3631 et seq.; Pub. L. 108-447; Pub. L. 111-281.

2. Amend § 679.20 by revising paragraphs (a)(7)(ii)(A)(1) and (2) and (B); (a)(7)(iii)(A) and (B) introductory text; (a)(7)(iv)(A)(3) and (C); and adding paragraph (a)(7)(iv)(D) to read as follows:

§ 679.20 General Limitations.

(a) * * *

(7) * * *

(ii) * * *

(A) * * *

Sector | % Allocation
(1) Jig (During the jig gear A season, see small vessel provision in paragraph (a)(7)(iv)(D) of this section) | 1.4
(2) Hook-and-line and pot CV <60 ft (18.3 m) LOA (During the jig gear A season, see small vessel provision in paragraph (a)(7)(iv)(D) of this section) | 2
* * * * * * *

(B) Incidental catch allowance. During the annual harvest specifications process set forth at paragraph (c) of this section, the Regional Administrator will specify an amount of Pacific cod that NMFS estimates will be taken as incidental catch in directed fisheries for groundfish other than Pacific cod by the hook-and-line and pot gear sectors. This amount will be the incidental catch allowance and will be deducted from the aggregate portion of Pacific cod TAC annually allocated to the hook-and-line and pot gear sectors (including the jig sector due to the small vessel provision in paragraph (a)(7)(iv)(D) of this section) before the allocations under paragraph (a)(7)(ii)(A) of this section are made to these sectors.

(iii) * * *

(A) Catcher vessel sectors. The Regional Administrator will reallocate projected unharvested amounts of Pacific cod TAC from a catcher vessel sector as follows:

(1) First, to the jig sector, as described under paragraph (7)(ii)(A)(1) of this section, or to the less than 60 ft (18.3 m) LOA hook-and-line and pot catcher vessel sector, as described under paragraph (7)(ii)(A)(2) of this section, or to both of these sectors;

(2) Second, to the greater than or equal to 60 ft (18.3 m) LOA hook-and-line or to the greater than or equal to 60 ft (18.3 m) LOA pot catcher vessel sectors; and

(3) Third, to the trawl catcher vessel sector.

(4) If the Regional Administrator determines that a projected unharvested amount from the jig sector allocation, the less than 60 ft (18.3 m) LOA hook-and-line and pot catcher vessel sector allocation, or the greater than or equal to 60 ft (18.3 m) LOA hook-and-line catcher vessel sector allocation is unlikely to be harvested through this hierarchy, the Regional Administrator will reallocate that amount to the hook-and-line catcher/processor sector.

(5) If the Regional Administrator determines that a projected unharvested amount from a greater than or equal to 60 ft (18.3 m) LOA pot catcher vessel sector allocation is unlikely to be harvested through this hierarchy, the Regional Administrator will reallocate that amount to the pot catcher/processor sector in accordance with the hierarchy set forth in paragraph (a)(7)(iii)(C) of this section.

(6) If the Regional Administrator determines that a projected unharvested amount from a trawl catcher vessel sector allocation is unlikely to be harvested through this hierarchy, the Regional Administrator will reallocate that amount to the other trawl sectors in accordance with the hierarchy set forth in paragraph (a)(7)(iii)(B) of this section.

(B) Trawl gear sectors. After applying paragraphs (a)(7)(iii)(A)(1) through (6) of this section, if applicable, the Regional Administrator will reallocate any projected unharvested amounts of Pacific cod TAC from the trawl catcher vessel or AFA catcher/processor sectors to other trawl sectors before unharvested amounts are reallocated and apportioned to specified gear sectors as follows:

* * * * *

(iv) * * *

(A) * * *

Sector | Seasonal allowances: A Season (%) | Seasonal allowances: B Season (%) | Seasonal allowances: C Season (%)
* * * * * * *
(3) Jig (During the jig gear A season, see small vessel provision in paragraph (a)(7)(iv)(D) of this section) | 60 | 20 | 20
* * * * * * *

* * * * *

(C) Jig sector. See § 679.20(a)(7)(iv)(D) for small vessel provisions during the A season. The Regional Administrator will reallocate any projected unused portion of a seasonal allowance of Pacific cod for the jig sector under this section to the less than 60 ft (18.3 m) LOA hook-and-line and pot catcher vessel sector. The Regional Administrator will reallocate the projected unused portion of the jig sector's C season allowance on or about September 1 of each year.

(D) Small vessel provision. (1) During the jig gear A season (see § 679.23(e)(5)(iv)), harvest by vessels using jig gear and harvest by CVs less than or equal to 55 ft (16.8 m) LOA using hook-and-line or pot gear accrues against the jig sector seasonal allowance.

(2) During the jig gear B and C seasons (see § 679.23(e)(5)(iv)), harvest by vessels using jig gear accrues against the seasonal allowances for the jig sector, and harvest by CVs less than or equal to 55 ft (16.8 m) LOA using hook-and-line or pot gear accrues against the hook-and-line and pot CV less than 60 ft (18.3 m) LOA sector's allocation.

* * * * *

[FR Doc. 2026-02872 Filed 2-11-26; 8:45 am]

BILLING CODE 3510-22-P